OFFICE OF MANAGEMENT AND BUDGET

Standard Data Elements for Electronically Posting Synopses of Federal Agencies' Financial Assistance Program Announcements at FedBizOpps

AGENCY: Office of Management and Budget (OMB).

ACTION: Notice of proposed standard data elements.

SUMMARY: The Office of Federal Financial Management (OFFM) proposes to establish a standard set of data elements for Federal agencies to use to electronically post synopses of announcements of funding opportunities under programs that award discretionary grants or cooperative agreements. The purpose of the data elements would be to give potential applicants: (1) Enough information about each funding opportunity to decide whether they are interested enough to look at the full announcement; and (2) one or more ways (e.g., an Internet site, e-mail address or phone number) to get the full announcement with the detailed information they need to decide whether they wish to apply. The proposed data elements would be the government-wide standard set for the hundreds of Federal programs that award discretionary grants or cooperative agreements. The Federal awarding agencies jointly developed these proposed data elements as one part of the implementation of the Federal Financial Assistance Management Improvement Act of 1999 (Pub. L. 106-107).

DATES: All comments on the proposed data elements should be in writing, and must be received by October 11, 2002.

ADDRESSES: Due to potential delays in OMB's receipt and processing of mail sent through the U. S. Postal Service, we encourage respondents to submit comments electronically to ensure timely receipt. We cannot guarantee that comments mailed will be received before the comment closing date.

Electronic mail comments may be submitted to: ephillip@omb.eop.gov. Please include “FedBizOpps Data Elements Comments” in the subject line and put the full body of your comments in the text of the electronic message and as an attachment. Please include your name, title, organization, postal address, telephone number, and e-mail address in the text of the message. Comments may also be submitted via facsimile to 202-395-3952. Comments may be mailed to Elizabeth Phillips, Office of Federal Financial Management, Office of Management and Budget, Room 6025, New Executive Office Building, Washington, DC 20503.

FOR FURTHER INFORMATION CONTACT: Elizabeth Phillips, Office of Federal Financial Management, Office of Management and Budget, telephone 202-395-3053 (direct) or 202-395-3993 (main office) and e-mail: ephillip@omb.eop.gov

SUPPLEMENTARY INFORMATION: To widely disseminate information about Federal funding opportunities more rapidly than was possible before the advent of electronic business practices, the General Services Administration has established the FedBizOpps Internet site (www.FedBizOpps.gov). Federal agencies now use FedBizOpps as the single site for giving the public access to relevant information about procurement opportunities that exceed $25,000, including procurement notices, solicitations, drawings, and amendments. In the future, the Federal agencies also will use the FedBizOpps site to post electronic synopses of funding opportunities leading to the award of grants, cooperative agreements, and other financial assistance instruments. This Federal Register announcement seeks public comment on the proposed data elements that Federal agencies would include in their synopses of those financial assistance funding opportunities.

These data elements and the posting of information at the FedBizOpps site address a need that non-Federal entities identified during the public consultation process mandated by Public Law 106-107. Commenters suggested the need for a single searchable Internet site for information about Federal agencies' funding opportunities, to reduce potential applicants' frustration with having to search multiple sites that individual Federal agencies configure in different ways. A standard data set and single site for synopses of announcements should help potential applicants easily and quickly find the key pieces of information they need about each funding opportunity to decide whether they wish to review the full announcement.

The Federal agencies selected the proposed data elements to enable you to do that and to use search criteria that would let you identify from the numerous funding opportunities posted at FedBizOpps at any given time the ones most likely to be of interest to you. For example, the proposed data elements will let you search using the name of a particular agency or the Catalog of Federal Domestic Assistance (CFDA) number for a particular program. You also may search by choosing a class or classes of activity, as defined in the CFDA, as well as limiting the search to programs open to certain types of entities (using categories of eligible applicants adapted from the Federal Assistance Awards Data System maintained by the Bureau of the Census at the Department of Commerce). You still would need to read the full announcement for the funding opportunities identified by your search, since the announcements provide much greater detail about each of the program's aspects (e.g., you might isolate programs that show the category of “State controlled institutions of higher education” as being eligible, but find in the full announcement that only selected types of those institutions, such as land-grant institutions, are eligible).

While some of the proposed data elements for financial assistance parallel those currently in FedBizOpps for synopses of procurement opportunities, others differ in ways that reflect differences between procurement and assistance. For example, the activity class codes for financial assistance opportunities are categories from the CFDA. In contrast, FedBizOpps synopses of procurement opportunities use supply code classifications that are appropriate for buying goods and services.

Many of the data elements proposed for FedBizOpps also are key information elements in the proposed standard format for financial assistance funding announcements (see related Notice in this section of the Federal Register). Examples are the CFDA number, eligible applicants, and cost-sharing requirements. Including these key elements responds to comments received from non-Federal entities through the public comment process under Public Law 106-107.

The proposed data elements also are designed to provide Federal agencies the flexibility to give you the needed information for programs that are designed to operate in different ways. For example, some programs have a single due date for applications. A numeric “application due date” field accommodates those programs, giving potential applicants concise information in a searchable field. Other programs, however, have announcements that remain open for extended periods; some have applications accepted and reviewed at multiple discrete points in time, while others will accept and review applications at any time during those periods. The proposed data elements include an application due date text field to let agencies give potential applicants clear and unambiguous information about those programs, in a way that the numeric field by itself would not support.

We welcome your input on any aspect of the data elements. Questions that you may wish to address include:

• Are the proposed data elements the essential ones that you need to help you quickly judge whether a funding opportunity is one for which you likely will want to read the full announcement? The intent is for the data elements to be the minimum set needed. That should allow potential applicants to more quickly see essential information, because they will not have to extract it from a larger data set that includes information they do not need until they are preparing and submitting an application. Those additional details are in the full announcement to which FedBizOpps provides electronic links. If you recommend adding or deleting any data elements, please explain why.

• Are the names of data elements and any terms used in describing them readily understandable? Are the terms generic enough to cover all programs and agencies in which you might have an interest? Do you have suggestions for alternate terms? Do you have suggestions for additional codes, such as those listed as choices for the data elements “category of funding activity” and “eligible applicants'?

Dated: July 31, 2002.
Mark W. Everson,
Controller.

Data element | Description | Required?
Federal agency user identification | User ID of Federal agency representative who is authorized to post information to the FedBizOpps site | One entry required.
Federal agency password | Password of Federal agency user representative who is authorized to post information to the FedBizOpps site | One entry required.
Funding opportunity title | The Federal agency's title for the funding opportunity (including program subcomponent names, as the agency deems appropriate) | One entry required.
Funding opportunity number | The number, if any, that the Federal agency assigns to its announcement | Optional.
Catalog of Federal Domestic Assistance (CFDA) number(s) | Number(s) of the CFDA listing(s) for program(s) included in the announcement (e.g., 12.300) | At least one entry required (may list more than one) if the Federal agency is subject to the requirement in 31 U.S.C. chapter 61 to report to the CFDA.
Federal agency mailing address | Regular (United States Postal Service) mailing address of the Federal organization responsible for the announcement, including agency name and specific subcomponent (e.g., department, bureau, directorate, or division), street address, city, State, and zip code | Optional. If you give no office name and address, FedBizOpps will insert the office name and address you gave when you initially registered and got your user ID and password.
Federal agency contact for electronic accesss problems | Should list name of person (e.g., webmaster) to whom potential applicants should refer questions if they cannot link from FedBizOpps to the full announcement (this person is distinct from programmatic and other agency contacts who are listed in the full announcement) | At least one entry required. May list more than one.
Type of help available from the Federal agency contact | The hypertext description accompanying the Federal agency contact e-mail address, to describe types of problems or questions with which the agency contact may be able to provide assistance (e.g., “If you have problems linking to the full announcement, contact:”) | Required. May list only one.
Federal agency contact e-mail address | E-mail address of Federal agency contact who can help with electronic access problems. | Required. May list only one.
Funding opportunity description | A concise description of the funding opportunity, designed to contain sufficient information for potential applicants to decide whether they are interested enough to read the full announcement | Required.
Funding instrument types | List codes for types of instruments that may be awarded: G = Grant CA = Cooperative Agreement PC = Procurement Contract O = Other | Required. Select all that apply (up to 4 codes).
| Note that if your announcement states that you may award procurement contracts, as well as assistance instruments, the announcement must be posted to both the procurement and assistance modules of FedBizOpps.
Category of funding activity | Designed to allow potential applicants to narrow their searches to programs in CFDA categories of interest to them. Note that the terms are defined in the CFDA. List all codes that apply: | At least one required and may list as many as needed. There is no default value.
| AG = Agriculture
| AR = Arts (see “Cultural Affairs” in the CFDA)
| BC = Business and Commerce
| CD = Community Development
| CP = Consumer Protection
| DPR = Disaster Prevention and Relief
| ED = Education
| ELT = Employment, Labor and Training
| EN = Energy
| ENV = Environment
| FN = Food and Nutrition
| HL = Health
| HO = Housing
| HU = Humanities (see “Cultural Affairs” in the CFDA)
| ISS = Income Security and Social Services
| IS = Information and Statistics
| LJL = Law, Justice and Legal Services
| NR = Natural Resources
| RD = Regional Development
| ST = Science and Technology and other Research and Development
| T = Transportation
| O = Other
Eligible applicants | Designed to help potential applicants narrow their searches to programs where they are most likely to be eligible (although they still must read the full announcement for details because eligibility may be further limited to certain subsets of applicants within the categories below). | Required to either select “99” for unrestricted or select all others that apply.
| 99 = Unrestricted (i.e., open to any type of entity below)
| Government codes:
| 00 = State governments
| 01 = County governments
| 02 = City or township governments
| 04 = Special district governments
| 05 = Independent school districts
| 06 = State controlled institutions of higher education
| 07 = Native American tribal governments (Federally recognized)
| 08 = Public housing authorities/Indian housing authorities
| Non-Government organizations:
How to get full announcement | Hypertext stating where to get the full announcement. If it is available on the Internet, this field should include the descriptor that precedes the URL for the full announcement (e.g., “Click on the following link to see the full text of the announcement for this funding opportunity:”) | Required.
Electronic link to full announcement | The URL for the full announcement, if it is on the Internet | Optional.
| 11 = Native American tribal organizations (other than Federally recognized tribal governments)
| 12 = Nonprofits other than institutions of higher education [includes community action agencies and other organizations having a 501(c)(3) status with the IRS]
| 20 = Private institutions of higher education
| 21 = Individuals
| 22 = For-profit organizations other than small businesses
| 23 = Small businesses
| 25 = All others [e.g., U.S. Federal or Foreign Governmental entities and nonprofits that do not have a 501(c)(3) status with the IRS]
Cost sharing requirement | Answer to question: is cost sharing required: (Y or N) | Required.
Due date for applications | Date when applications are due (or latest date when applications accepted, if announcement has multiple due dates or is a general announcement that is open for a specified period with applications accepted at any time during that period) | Required if “Explanation of application due dates” field is not completed. Optional otherwise.
Explanation of application due dates | Used by agencies wishing to post more information about due date(s) for potential applicants. For example, the field may be used to describe programs with multiple due dates or ones where applications are accepted, reviewed, and funded at any point within a broad time window. The field also may be used to add information about the time when applications are due (e.g., 5:00 p.m. EDT on the date given in the “Due date for applications” field) | Optional (note that “Due date for applications” field is required if this “Explanation of application due dates” text field is not completed).
Date of FedBizOpps posting | Month, day, and year when the agency wants the synopsis posted on FEdBizOpps (e.g., some agencies may build in delays to allow announcements to appear first in the Federal Register or at agency Internet sites). Format is MMDDCCYY | Required.
Date for FedBizOpps to archive | Month, day, and year when the agency wants the synpopsis archived. Format is MMDDCCYY | Optional. Default, if agency provides no input, is 30 days after the date given in the “Due date for applications” field.

[FR Doc. 02-20261 Filed 8-9-02; 8:45 am]

BILLING CODE 3110-01-P